INTERNATIONAL TRADE COMMISSION

[Investigation No. 337-TA-559]

In the Matter of Certain Digital Processors and Digital Processing Systems, Components Thereof, and Products Containing Same; Notice of Commission Decision Not To Review an Initial Determination Granting Complainant's Motion To Amend the Complaint and Notice of Investigation

AGENCY: U.S. International Trade Commission.

ACTION: Notice.

SUMMARY: Notice is hereby given that the U.S. International Trade Commission has determined not to review an initial determination (“ID”) issued by the presiding administrative law judge (“ALJ”) granting complainant's motion to amend the complaint and notice of investigation.

FOR FURTHER INFORMATION CONTACT: Michelle Walters, Esq., Office of the General Counsel, U.S. International Trade Commission, 500 E Street, SW., Washington, DC 20436, telephone (202) 708-5468. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on January 9, 2006, based on a complaint filed by Biax Corporation (“Biax”) of Boulder, Colorado. The complaint alleges violations of section 337 of the Tariff Act of 1930 (19 U.S.C. 1337) in the importation into the United States, the sale for importation, and the sale within the United States after importation of certain digital processors or digital processing systems, components thereof, or products containing the same by reason of infringement of various claims of United States Patent Nos. 5,021,945, 5,517,628, and 6,253,313. The complaint originally named four respondents: Philips Semiconductors B.V. of the Netherlands; Philips Consumer Electronics Services B.V. of the Netherlands; Philips Consumer Electronics North America Corp. of Atlanta, Georgia; and 2Wire, Inc. of San Jose, California. Biax previously amended the complaint and notice of investigation in order to remove respondent Philips Consumer Electronics North America Corp. and to add Philips Electronics North America Corp. 71 FR 17136 (April 5, 2006).

On March 9, 2006, Biax moved to amend the complaint and notice of investigation in order to remove respondent Philips Consumer Electronics Services B.V. and to add Philips Semiconductors, Inc. of San Jose, California, and Philips Consumer Electronics B.V. of the Netherlands. Biax stated that it had recently learned that Philips Consumer Electronics Services B.V. is a dormant entity that has not imported into the United States, sold, or offered for sale any of the accused products. In addition, Biax stated that it had recently learned that Philips Semiconductors, Inc. imports and sells the accused products in the United States and that Philips Consumer Electronics B.V. manufactures consumer products that contain the accused products and sells them in the United States. None of the current respondents nor the Commission investigative attorney opposed Biax's motion.

On March 27, 2006, the ALJ issued an ID granting Biax's motion to amend the complaint and notice of investigation. The ALJ found that, pursuant to Commission Rule 210.14(b)(1) (19 CFR 210.14(b)(1)), there was good cause to amend the complaint and notice of investigation in order to remove respondent Philips Consumer Electronics Services B.V. and to add Philips Semiconductors, Inc. and Philips Consumer Electronics B.V. No petitions for review of the ID were filed. Having examined the record of this investigation, the Commission has determined not to review the ALJ's ID.

The authority for the Commission's determination is contained in section 337 of the Tariff Act of 1930, as amended (19 U.S.C. 1337), and in section 210.42 of the Commission's Rules of Practice and Procedure (19 CFR 210.42).

Issued: April 18, 2006.
By order of the Commission.
Marilyn R. Abbott,
Secretary to the Commission.

[FR Doc. E6-6079 Filed 4-21-06; 8:45 am]

BILLING CODE 7020-02-P